DEPARTMENT OF LABOR

Office of the Secretary

Agency Information Collection Activities; Submission for OMB Review; Comment Request; Employer Survey of the Short Time Compensation Program

ACTION: Notice.

SUMMARY: The Department of Labor (DOL) is submitting the Employment and Training Administration (ETA) sponsored information collection request (ICR) proposal titled, “Employer Survey of the Short Time Compensation Program,” to the Office of Management and Budget (OMB) for review and approval for use in accordance with the Paperwork Reduction Act (PRA) of 1995 (44 U.S.C. 3501 et seq.).

DATES: Submit comments on or before December 26, 2013.

ADDRESSES: A copy of this ICR with applicable supporting documentation; including a description of the likely respondents, proposed frequency of response, and estimated total burden may be obtained free of charge from the RegInfo.gov Web site at http://www.reginfo.gov/public/do/PRAViewICR?ref_nbr=201310-1205-001 (this link will only become active on the day following publication of this notice) or by contacting Michel Smyth by telephone at 202-693-4129 (this is not a toll-free number) or sending an email to DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-6881 (this is not a toll-free number); or by email: OIRA_submission@omb.eop.gov. Commenters are encouraged, but not required, to send a courtesy copy of any comments by mail or courier to the U.S. Department of Labor—OASAM, Office of the Chief Information Officer, Attn: Information Policy and Assessment Program, Room N1301, 200 Constitution Avenue NW., Washington, DC 20210; or by email: DOL_PRA_PUBLIC@dol.gov.

FOR FURTHER INFORMATION CONTACT: Michel Smyth by telephone at 202-693-4129 (this is not a toll-free number) or by email at DOL_PRA_PUBLIC@dol.gov.

Authority: 44 U.S.C. 3507(a)(1)(D).

SUPPLEMENTARY INFORMATION: This ICR seeks PRA authorization for the ETA to conduct the Employer Survey of Short-Time Compensation (STC). The STC Program provides an opportunity for employers to reduce layoffs by temporarily reducing work hours of some employees. STC provides pro-rated unemployment insurance benefits for workers whose hours of work have been temporarily reduced. Middle Class Tax Relief and Job Creation Act of 2012 section 2164 requires the Secretary of Labor to survey employers in all States to determine employers' level of interest in participating in the STC Program. This proposed information collection activity will help satisfy this requirement. More specifically, the study this survey supports will examine employers' experiences, awareness, and perspectives of the STC Program in four states that have an active STC program. Employers who have used the STC program and employers who have not used the program will be surveyed. The study will focus on the following four research areas: (1) Characteristics of employers participating in the STC Program; (2) extent of employer participation in the STC Program; (3) employers' awareness, experiences, and views of the STC Program; and (4) employers' opinion about workers' view of STC.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on August 7, 2013 (78 FR 48199).

Interested parties are encouraged to send comments to the OMB, Office of Information and Regulatory Affairs at the address shown in the ADDRESSES section within 30 days of publication of this notice in the Federal Register. In order to help ensure appropriate consideration, comments should mention OMB ICR Reference Number 201310-1205-01. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Employer Survey of the Short Time Compensation Program.

OMB ICR Reference Number: 201310-1205-001.

Affected Public: Private Sector—businesses or other for-profits.

Total Estimated Number of Respondents: 3,200.

Total Estimated Number of Responses: 3,200.

Total Estimated Annual Burden Hours: 1,280.

Total Estimated Annual Other Costs Burden: $0.

Dated: November 20, 2013.
Michel Smyth,
Departmental Clearance Officer.

[FR Doc. 2013-28330 Filed 11-25-13; 8:45 am]

BILLING CODE 4510-FN-P